FEDERAL COMMUNICATIONS COMMISSION

47 CFR Part 73

[DA 01-1479; MM Docket No. 01-70, RM-10082; MM Docket No. 01-71, RM-10083].

Radio Broadcasting Services; Quartzsite, AZ; Leesville, LA

AGENCY: Federal Communications Commission.

ACTION: Final rule.

SUMMARY: This document grants two proposals that allot new FM channels to Quartzsite, Arizona, and Leesville, Louisiana. Filing windows for Channel 275C3 at Quartzsite, Arizona, and Channel 252A at Leesville, Louisiana, will not be opened at this time. Instead, the issue of opening these allotments for auction will be addressed by the Commission in a subsequent order.

DATES: Effective August 6, 2001.

FOR FURTHER INFORMATION CONTACT: R. Barthen Gorman, Mass Media Bureau, (202) 418-2180.

SUPPLEMENTARY INFORMATION: This is a synopsis of the Commission's Report and Order in MM Docket No. 01-70 and MM Docket No. 01-71, adopted June 13, 2001, and released June 22, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW, Washington, DC 20036.

The Commission, at the request of McMullen Valley Broadcasting Company, allots Channel 275C3 at Quartzsite, Arizona, as the community's second local FM transmission service. See 66 FR 17843 (April 4, 2001). Channel 275C3 can be allotted at Quartzsite in compliance with the Commission's minimum distance separation requirements at city reference coordinates. The coordinates for Channel 275C3 at Quartzsite are 33-39-50 North Latitude and 114-13-45 West Longitude.

The Commission, at the request of Stargazer Broadcasting of Western Louisiana, allots Channel 252A at Leesville, Louisiana, as the community's fourth local aural transmission service. See 66 FR 17843 (April 4, 2001). Channel 252A can be allotted to Leesville in compliance with the Commission's minimum distance separation requirements with a site restriction of 1.7 kilometers (1 mile) west of Leesville. The coordinates for Channel 252A at Leesville are 31-08-30 North Latitude and 93-16-41 West Longitude.

List of Subjects in 47 CFR Part 73

Radio broadcasting.

Part 73 of Title 47 of the Code of Federal Regulations is amended as follows:

PART 73—RADIO BROADCAST SERVICES

1. The authority citation for Part 73 continues to read as follows:

Authority: 47 U.S.C. §§ 154, 303, 334, 336.

§ 73.202 [Amended]

2. Section 73.202(b), the Table of FM Allotments under Arizona, is amended by adding Quartzsite, Channel 275C3.

3. Section 73.202(b), the Table of FM Allotments under Louisiana, is amended by adding Leesville, Channel 252A.

Federal Communications Commission.
John A. Karousos,
Chief, Allocations Branch, Policy and Rules Division, Mass Media Bureau.

[FR Doc. 01-16796 Filed 7-3-01; 8:45 am]

BILLING CODE 6712-01-P